DEPARTMENT OF HEALTH AND HUMAN SERVICES

Substance Abuse and Mental Health Services Administration

Center for Mental Health Services; Notice of Meeting

Pursuant to Public Law 92-463, notice is hereby given that the Substance Abuse and Mental Health Services Administration's (SAMHSA) Center for Mental Health Services (CMHS) National Advisory Council will meet April 2, 2014, 9:00 a.m. to 4:30 p.m.

The meeting will be open to the public from 9:00 a.m. to 4:30 p.m. as determined by the SAMHSA Administrator, in accordance with Title 5 U.S.C. 552b(c)(9)(b) and 5 U.S.C. App. 2, Section 10(d). The meeting will include discussion of the Center's policy issues, and current administrative, legislative, and program developments.

Substantive program information, a summary of the meeting and a roster of Council members may be obtained as soon as possible after the meeting, by accessing the SAMHSA Committee Web site at https://nac.samhsa.gov/CMHScouncil/index.aspx, or by contacting the CMHS National Advisory Council Designated Federal Official, Ms. Deborah DeMasse-Snell (see contact information below).

Committee Name: SAMHSA's Center for Mental Health Services National Advisory Council.

Date/Time/Type: April 2, 2014, 9:00 a.m.-4:30 p.m. OPEN.

Place: SAMHSA Building, 1 Choke Cherry Road, Great Falls Room, Rockville, Maryland 20857.

Contact: Deborah DeMasse-Snell M.A. (Than), Designated Federal Official, SAMHSA CMHS National Advisory Council, 1 Choke Cherry Road, Room 6-1084, Rockville, Maryland 20857, Telephone: (240) 276-1861, Fax: (240) 276-1830, Email: Deborah.DeMasse-Snell@samhsa.hhs.gov.

Cathy J. Friedman,
Public Health Analyst, SAMHSA.

[FR Doc. 2014-05002 Filed 3-6-14; 8:45 am]

BILLING CODE 4162-20-P